DEPARTMENT OF COMMERCE

National Oceanic and Atmospheric Administration

[RTID 0648-XC025]

New England Fishery Management Council; Public Meeting

AGENCY: National Marine Fisheries Service (NMFS), National Oceanic and Atmospheric Administration (NOAA), Commerce.

ACTION: Notice of public meeting.

SUMMARY: The New England Fishery Management Council is convening a joint ad-hoc sub-panel of its Scientific and Statistical Committee (SSC) with members of the Mid-Atlantic Fishery Council's SSC to provide the Northeast Regional Marine Fish Habitat Assessment (NRHA) with input on their workplan and to consider actions affecting New England fisheries in the exclusive economic zone (EEZ). Recommendations from this group will be brought to the full Council for formal consideration and action, if appropriate.

DATES: This webinar will be held for on Wednesday, June 1, 2022, from 9 a.m. to 12 p.m. Webinar registration URL information: https://attendee.gotowebinar.com/register/8869822296640320014. Call in information: Phone: +1 (914) 614-3221/Access Code: 219-562-344.

ADDRESSES:

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The joint SSC Subpanel, comprised of SSC members from both the New England and Mid-Atlantic Fishery Management Councils, will meet to review and provide input on initial work products related to the Northeast Regional Marine Fish Habitat Assessment (NRHA). The panel will review the workplan, methods used, and inferences made from the single species and community level function models under development. The subpanel will consider the overall utility of the NRHA including the use of specific products in stock assessment, habitat management and conservation (including Essential Fish Habitat and Habitat Area of Particular Concern designations), and ecosystem approaches for the Councils. Finally, the subpanel will provide input on how to present and communicate the data and analyses to various end users. The subpanel will provide a report summarizing their input. This input will be provided directly to the NRHA habitat assessment/modeling team as well as the New England and Mid-Atlantic Fishery Management Councils. There will be opportunities for public input and comment.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 9, 2022.
Rey Israel Marquez,
Acting Deputy Director, Office of Sustainable Fisheries, National Marine Fisheries Service.

[FR Doc. 2022-10333 Filed 5-12-22; 8:45 am]

BILLING CODE 3510-22-P